DEPARTMENT OF LABOR

Employment and Training Administration

[TA-W-54,727]

Tyco Healthcare Kendall, Including Leased Workers of Keena Staffing Company, Park Personnel and Manpower Temporary Services, Argyle, NY; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on May 5, 2004, applicable to workers of Tyco Healthcare Kendall, including leased workers of Keena Staffing Company and Park Personnel, Argyle, New York. The notice was published in the Federal Register on June 2, 2004 (69 FR 31137).

At the request of a company official, the Department reviewed the certification for workers of the subject firm. New information shows that leased workers of Manpower Temporary Services were employed at the Argyle, New York location of Tyco Healthcare Kendall.

Based on these findings, the Department is amending this certification to include leased workers of Manpower Temporary Services working at Tyco Healthcare Kendall, Argyle, New York.

The intent of the Department's certification is to include all workers employed at Tyco Healthcare Kendall, who were adversely affected by a shift in production to Mexico.

The amended notice applicable to TA-W-54,727 is hereby issued as follows:

All workers of Tyco Healthcare Kendall, Argyle, New York, including leased workers of Keena Staffing Company, Park Personnel and Manpower Temporary Services working at Tyco Healthcare Kendall, Argyle, New York, who became totally or partially separated from employment on or after April 14, 2003, through May 5, 2006, are eligible to apply for adjustment assistance under section 223 of the Trade Act of 1974, and are also eligible to apply for alternative trade adjustment assistance under section 246 of the Trade Act of 1974.

Signed in Washington, DC, this 18th day of August, 2004.
Elliott S. Kushner,
Certifying Officer, Division of Trade Adjustment Assistance.

[FR Doc. 04-19411 Filed 8-24-04; 8:45 am]

BILLING CODE 4510-30-P